Title 3—

The President

Proclamation 10892 of February 3, 2025

American Heart Month, 2025

By the President of the United States of America

A Proclamation

Every day, untold numbers of our friends, relatives, neighbors, and coworkers are affected by the devastating affliction of heart disease. As the Nation's leading cause of death, cardiovascular disease has stolen infinite lives, crushed countless families, and imposed unimaginable heartbreak upon Americans of every walk of life. This American Heart Month, we mourn and pray for those we have lost and recommit ourselves to ending the deadly plight of heart disease once and for all.

Thanks to advancements in medicine, science, and technology, our Nation has made tremendous strides in combatting heart disease—and the American people are now better equipped than ever before to receive lifesaving treatments, respond to medical complications, and modify behavior and habits to ensure they can lead long and healthy lives.

But even one soul lost to heart disease is a tragedy beyond comprehension. To that end, my Administration will work diligently to save lives, lower healthcare costs, and foster a stronger, safer, and healthier future for every citizen. For as long as I am President, I will always be an unwavering advocate for improving the health of every American.

The first step in confronting the cardiac disease crisis is taking concrete action to lower the odds of diagnosis—and encouraging those in our lives to take all necessary measures to root out unhealthy habits. Research has consistently shown that risk factors contributing to heart disease include obesity, high blood pressure and cholesterol, lack of exercise, excessive alcohol use, and smoking. Making small adjustments to our health and routines can yield extraordinary and even life-saving results. My Administration is also steadfastly committed to cracking down on Big Pharma and ending the chronic disease epidemic. And we will fulfill our pledge to investigate what has caused the decades-long increase in health problems and childhood diseases—including obesity, autoimmune disorders, infertility, and autism. As Americans, we owe it to ourselves and our families to take care of our bodies—and to cherish God's gift of life for as long and as vigorously as we can.

As we enter into this American Heart Month, let us seek to improve our health, lengthen our lives, and nurture a culture, a government, and a Nation that upholds the dignity of life and protects the human heart.

In acknowledgement of the importance of the ongoing fight against cardiovascular disease, the Congress, by Joint Resolution approved on December 30, 1963, as amended (36 U.S.C. 101), has requested that the President issue an annual proclamation designating February as American Heart Month.

NOW, THEREFORE, I, DONALD J. TRUMP, President of the United States of America, do hereby proclaim February 2025 as American Heart Month, and I invite all Americans to participate in National Wear Red Day on February 7, 2025. I also invite the Governors of the States, the Commonwealth of Puerto Rico, officials of other areas subject to the jurisdiction of the United States, and the American people to join my Administration in recognizing and restating our pledge to fighting heart disease in all its forms.

IN WITNESS WHEREOF, I have hereunto set my hand this third day of February, in the year of our Lord two thousand twenty-five, and of the Independence of the United States of America the two hundred and forty-ninth.

[FR Doc. 2025-02402

Filed 2-5-25; 11:15 am]

Billing code 3395-F4-P